Title 3—

The President

Proclamation 10632 of September 25, 2023

Gold Star Mother's and Family's Day, 2023

By the President of the United States of America

A Proclamation

On this day of solemn remembrance, my heart is with all our Nation's Gold Star mothers and fathers, wives and husbands, and daughters and sons—all the families who are grieving a loved one, a patriot, who died fighting to defend our country and preserve our freedom. Today, we keep the faith with all those who kept faith with us by recommitting to our sacred obligation as a Nation to always care for the families of those who gave their last full measure of devotion to our Nation.

From the fields of Yorktown and the shores of Normandy to the rice paddies of Busan and Saigon, the valleys of Kandahar, and the mountains of Sinjar, generations of brave men and women have laid down their lives—not for a person or place but for an idea unlike any other in human history: the idea of the United States of America. And together, they helped deliver a Nation grounded in freedom, democracy, equality, tolerance, opportunity, and justice. All of us live by the light of the flame of liberty that our fallen heroes kept burning. Their legacies—guarded and strengthened by each generation—will always live on in our Nation.

I know that days of remembrance can bring grieving families right back to the first terrible moments when the hurt was so raw. The pain of remembering those we have lost and the pride in who they were and how they lived can be inseparable. As we honor the courage and sacrifice of all those who died in uniform, the First Lady and I are keeping all our Gold Star families in our prayers. And my Administration has made it a top priority to fulfill our Nation's promise to care for military and veteran families, caregivers, and survivors—the loved ones who provide strength through countless deployments and serve our Nation in so many ways, all while enduring their loved one's absence. Over the past two and a half years, I have signed into law more than 25 bipartisan laws to support our service members and veterans as well as their families, caregivers, and survivors, and we will always stand with our Gold Star families to ensure they have support and resources to help them heal.

On Gold Star Mother's and Family's Day, we grieve for those who paid the ultimate price to keep our Nation safe and secure and for the families who will always feel their absence. May we continue to honor their sacrifice by working toward that more perfect union, for which so many patriots lived and died, and may we always keep faith with our Gold Star families who carry their light forward each day.

The Congress, by Senate Joint Resolution 115 of June 23, 1936 (49 Stat. 1895 as amended), has designated the last Sunday in September as “Gold Star Mother's Day.”

NOW, THEREFORE, I, JOSEPH R. BIDEN JR., President of the United States of America, by virtue of the authority vested in me by the Constitution and the laws of the United States, do hereby proclaim Sunday, September 24, 2023, as Gold Star Mother's and Family's Day. I call upon all Government officials to display the flag of the United States over Government buildings on this special day. I also encourage the American people to display the flag and hold appropriate ceremonies as a public expression of our Nation's gratitude and respect for our Gold Star Mothers and Families.

IN WITNESS WHEREOF, I have hereunto set my hand this twenty-fifth day of September, in the year of our Lord two thousand twenty-three, and of the Independence of the United States of America the two hundred and forty-eighth.

[FR Doc. 2023-21797

Filed 9-28-23; 11:15 am]

Billing code 3395-F3-P